FEDERAL COMMUNICATIONS COMMISSION

[OMB 3060-1305; FR ID 272753]

Information Collection Being Reviewed by the Federal Communications Commission Under Delegated Authority

AGENCY: Federal Communications Commission.

ACTION: Notice and request for comments.

SUMMARY: As part of its continuing effort to reduce paperwork burdens, and as required by the Paperwork Reduction Act (PRA) of 1995, the Federal Communications Commission (FCC or the Commission) invites the general public and other Federal agencies to take this opportunity to comment on the following information collection. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid control number. No person shall be subject to any penalty for failing to comply with a collection of information subject to the PRA that does not display a valid Office of Management and Budget (OMB) control number.

DATES: Written PRA comments should be submitted on or before March 17, 2025. If you anticipate that you will be submitting comments but find it difficult to do so within the period of time allowed by this notice, you should advise the contact listed below as soon as possible.

ADDRESSES: Direct all PRA comments to Nicole Ongele, FCC, via email PRA@fcc.gov and to nicole.ongele@fcc.gov.

FOR FURTHER INFORMATION CONTACT: For additional information about the information collection, contact Nicole Ongele, (202) 418-2991.

SUPPLEMENTARY INFORMATION:

OMB Control Number: 3060-1305.

Title: Required Disclosure of Exclusive Marketing Arrangements in MTEs, Rule Sections 64.2500(e) and 76.2000(d).

Form Number: N/A.

Type of Review: Extension of a currently-approved collection.

Respondents: Business or other for-profit.

Number of Respondents and Responses: 515 respondents; 24 million annual responses.

Estimated Time per Response: 3 hours.

Frequency of Response: Third-party disclosure requirement.

Obligation to Respond: Mandatory. Statutory authority for this information collection is contained in 47 U.S.C. 201(b) and 628(b).

Total Annual Burden: 1,545 hours.

Total Annual Cost: No Cost.

Needs and Uses: The Commission is requesting Office of Management and Budget (OMB) approval for a three-year extension for this information collection. In Improving Competitive Broadband Access to Multiple Tenant Environments, GN Docket No. 17-142, Report and Order and Declaratory Ruling, FCC 22-12 (Feb. 11, 2022), the Commission, among other things, adopted new rules requiring providers (common carriers and multichannel video programming distributors (MVPDs) subject to 47 U.S.C. 628(b)) to disclose the existence of exclusive marketing arrangements that they have with owners of multi-tenant premises (MTEs). An exclusive marketing arrangement is an arrangement, either written or in practice, between an MTE owner and a provider that gives the provider, usually in exchange for some consideration, the exclusive right to certain means of marketing its service to tenants of the MTE. The required disclosure must be included on all written marketing material from the provider directed at tenants or prospective tenants of an MTE subject to the arrangement. The disclosure must explain in clear, conspicuous, legible, and visible language that the provider has the right to exclusively market its communications services to tenants in the MTE, that such a right does not suggest that the provider is the only entity that can provide communications services to tenants in the MTE, and that service from an alternative provider may be available. The purposes of the compelled disclosure are to remedy tenant confusion regarding the impact of exclusive marketing arrangements, prevent the evasion of our exclusive access rules, and, in turn, promote competition for communications services in MTEs.

Federal Communications Commission.
Marlene Dortch,
Secretary, Office of the Secretary.

[FR Doc. 2025-00646 Filed 1-13-25; 8:45 am]

BILLING CODE 6712-01-P